CONSUMER PRODUCT SAFETY COMMISSION

16 CFR Part 1264

[CPSC Docket No. 2011-0074]

Safety Standard Addressing Blade-Contact Injuries on Table Saws; Notice of Extension of Comment Period

AGENCY: Consumer Product Safety Commission.

ACTION: Extension of comment period.

SUMMARY: On November 1, 2023, the Consumer Product Safety Commission (Commission or CPSC) published in the Federal Register a supplemental notice of proposed rulemaking (SNPR) to promulgate a consumer product safety standard to address blade-contact injuries on table saws. The SNPR invited the public to submit written comments during a 60-day comment period beginning on the SNPR publication date and ending on January 2, 2024. In response to a request for an extension of the comment period, the Commission is extending the comment period to February 1, 2024.

DATES: The comment period for the proposed rule published November 1, 2023, at 88 FR 74909, is extended. Submit comments by February 1, 2024.

ADDRESSES: Submit comments on the proposed rule, identified by Docket No. CPSC-2011-0074, by any of the following methods:

Electronic Submissions: Submit electronic comments to the Federal eRulemaking Portal at: https://www.regulations.gov. Follow the instructions for submitting comments. CPSC typically does not accept comments submitted by electronic mail (email), except as described below. CPSC encourages you to submit electronic comments by using the Federal eRulemaking Portal.

Mail/Hand Delivery/Courier Written Submissions: Submit comments by mail/hand delivery/courier to: Office of the Secretary, Consumer Product Safety Commission, 4330 East West Highway, Bethesda, MD 20814; telephone: (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to: www.regulations.gov. Do not submit through this website: confidential business information, trade secret information, or other sensitive or protected information that you do not want to be available to the public. If you wish to submit such information, please submit it according to the instructions for mail/hand delivery/courier written submissions.

Docket: For access to the docket to read background documents or comments received, go to: www.regulations.gov, and insert the docket number, CPSC-2011-0074, into the “Search” box, and follow the prompts.

SUPPLEMENTARY INFORMATION: On October 18, 2023, the Commission voted to publish an SNPR in the Federal Register, to promulgate a consumer product safety standard for blade-contact injury hazards associated with table saws. The SNPR published on November 1, 2023, with a 60-day comment period that closes on January 2, 2024. 88 FR 74909.

On November 22, 2023, Susan Orenga, Executive Manager, Power Tool Institute, Inc. (PTI), submitted a request to the Commission to extend the comment period by 60 days. The Commission has considered this request to extend the comment period. To provide additional time for stakeholders to prepare comments for the rulemaking, the Commission will grant an extension of the comment period to February 1, 2024.

Alberta E. Mills,
Secretary, Consumer Product Safety Commission.

[FR Doc. 2023-27133 Filed 12-8-23; 8:45 am]

BILLING CODE 6355-01-P